DEPARTMENT OF HEALTH AND HUMAN SERVICES

Office of Minority Health, Organizational Structure

AGENCY: Office of Minority Health, Office of the Secretary, Department of Health and Human Services.

ACTION: Notice.

SUMMARY: This notice provides an update to the organizational structure for the Department of Health and Human Services (HHS), Office of the Secretary (OS), Office of Minority Health (OMH). OMH has changed the name of the Division of Information and Education (DIE acronym), as noted in an April 11, 1995 Federal Register Notice, to the Division of Strategic Communication and Community Engagement (DCE acronym). This name change better aligns with the functions of the division and provides for a more socially acceptable acronym. The functions of the division are unchanged from the April 11, 1995 Federal Register Notice.

SUPPLEMENTARY INFORMATION: OMH develops policies and programs for the improvement of the health status of racial and ethnic minority populations and coordinates minority health activities across HHS. The establishment of OMH is noted in 50 FR 50847-48 (December 12, 1985). OMH's organization, functions, and delegations of authority are noted in 60 FR 18418-19 (April 11, 1995), as amended in 78 FR 59699-700 (September 27, 2013).

This notice provides an update to Part A, Office of the Secretary, Statement of Organization, Functions, and Delegations of Authority for the U.S. Department of Health and Human Services at Chapter AC, to change the name of the OMH Division of Information and Education (DIE acronym), as noted at 60 FR 18418-19 (April 11, 1995), to the Division of Strategic Communication and Community Engagement (DCE acronym). This name change better aligns with the functions of the division and provides for a more socially acceptable acronym. The functions of the division are unchanged from the April 11, 1995 Federal Register Notice.

Vivianna P. Cowl,
Paperwork Reduction Act Reports Clearance Officer, Health and Human Service, Office of the Secretary.

[FR Doc. 2024-31619 Filed 1-8-25; 8:45 am]

BILLING CODE 4150-31-P